DEPARTMENT OF DEFENSE

Office of the Secretary

National Commission on the Future of the Army; Notice of Federal Advisory Committee Meeting

AGENCY: Deputy Chief Management Officer, Department of Defense (DoD).

ACTION: Notice of Federal Advisory Committee Meeting.

SUMMARY: The DoD is publishing this notice to announce a meeting of the National Commission on the Future of the Army (“the Commission”). The meeting will be open to the public.

DATES: Date of the Open Meeting: Thursday, January 28, 2016, from 2:00 p.m. to 4:00 p.m.

ADDRESSES: Address of Open Meeting, January 28, 2016: Room 285, State Services Organization, Hall of States, 444 North Capitol Street NW., Suite 237, Washington, DC 20001.

FOR FURTHER INFORMATION CONTACT: Mr. Don Tison, Designated Federal Officer, National Commission on the Future of the Army, 700 Army Pentagon, Room 3E406, Washington, DC 20310-0700, Email: dfo.public@ncfa.ncr.gov. Desk (703) 692-9099. Facsimile (703) 697-8242.

SUPPLEMENTARY INFORMATION: This meeting will be held under the provisions of the Federal Advisory Committee Act (FACA) of 1972 (5 U.S.C., Appendix, as amended), the Government in the Sunshine Act of 1976 (5 U.S.C. 552b, as amended), and 41 CFR 102-3.150.

Purpose of Meetings

During the open meeting on Thursday, January 28, 2016, the Commission will publicly release their final report.

Agendas

January 28, 2016—Open Meeting: The Commission will hold an open meeting to provide comments and announce the release of the Commission's final report.

Meeting Accessibility

Pursuant to 41 CFR 102-3.140 through 102-3.165 and the availability of space, the meeting scheduled for January 28, 2016 from 2:00 p.m. to 4:00 p.m. at the Hall of States is open to the public. Seating is limited and pre-registration is strongly encouraged. Media representatives are also encouraged to register. Members of the media must comply with the rules of photography and video filming published by the State Services Organization and George Washington University. The closest public parking facility is on the property, for an hourly fee. The Union Station metro is a two-block walk. Visitors should keep their belongings with them at all times.

Additional Information

The DoD sponsor for the Commission is the Deputy Chief Management Officer. The Commission is tasked to submit a report, containing a comprehensive study and recommendations, by February 1, 2016 to the President of the United States and the Congressional defense committees. The report will contain a detailed statement of the findings and conclusions of the Commission, together with its recommendations for such legislation and administrative actions it may consider appropriate in light of the results of the study. The comprehensive study of the structure of the Army will determine whether, and how, the structure should be modified to best fulfill current and anticipated mission requirements for the Army in a manner consistent with available resources.

Dated: January 5, 2016.
Aaron Siegel,
Alternate OSD Federal Register Liaison Officer, Department of Defense.

[FR Doc. 2016-00230 Filed 1-8-16; 8:45 am]

BILLING CODE 5001-06-P